ENVIRONMENTAL PROTECTION AGENCY

[FRL-6857-9]

Agency Information Collection Activities; Submission for OMB Review; Comment Request; Quality Assurance Specification and Requirements

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title OMB Control Number 2060-0033, expiration date 8/31/2000. The ICR describes the nature of the information collection and its expected burden and cost; where appropriate, it includes the actual data collection instrument.

ADDRESSES: Send comments, referencing EPA ICR No. 0866.06 and OMB Control No. 2080-0033, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

DATES: Comments must be submitted on or before September 25, 2000.

FOR FURTHER INFORMATION CONTACT: Sandy Farmer at EPA by phone at (202) 260-2740, by e-mail at Farmer.Sandy@epa.gov or download a copy of the ICR off the Internet at http://www.epa.gov/icr and refer to EPA ICR No. 0866.06.

SUPPLEMENTARY INFORMATION:

Title: Quality Assurance Specification and Requirements, OMB Control Number 2060-0033, EPA ICR Number 0866.06, expiration date August 31, 2000. This is a request for extension of a currently approved collection.

Abstract: This ICR covers the quality assurance (QA) paperwork burden that appears at 40 CFR 30.54, 40 CFR 31.45, and 40 CFR 35.260 and 35.6055. These are subsections from 40 CFR Part 30—Grants and Agreements with Institutions of Higher Education, Hospitals, and Other Non-Profit Organizations, 40 CFR Part 31—Uniform Administrative Requirements for Grants and Cooperative Agreements to State and Local Governments, and 40 CFR Part 35—State and Local Assistance. The information collection activity involves the development and implementation of quality assurance practices consisting of policies, procedures, specifications, standards, and documentation sufficient to produce data of quality adequate to meet project objectives and to minimize loss of data due to out-of-control conditions or malfunctions. Specifically, this refers to the preparation of QA management and project plans. The quality system of the recipient of 40 CFR Part 30 assistance must comply with the requirements of ANSI/ASQC E4, “Specifications and Guidelines for Quality Systems for Environmental Data Collection and Environmental Technology Programs.” A clarifying statement for all organizations receiving EPA financial assistance under 40 CFR Part 31 and 40 CFR Part 35 has been issued by the Office of Grants and Debarment. This clarifying statement defines Agency-wide criteria for meeting the requirements under the applicable CFRs and is consistent with Agency policy since 1988. It cites the ANSI/ASQC E4 as a national consensus standard that applies to all recipients. All QA submissions are reviewed and approved by an EPA certified project officer and/or a designated quality assurance officer.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 21, 2000 (65 FR 15149); no comments were received.

Burden Statement: The annual public reporting and recordkeeping burden for this collection of information is estimated to average 85 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Non-profit organizations and State, local, or Tribal agencies applying for financial assistance for environmental data collection operations.

Estimated Number of Respondents: 1940.

Frequency of Response: Once.

Estimated Total Annual Hour Burden: 164,900.

Estimated Total Annualized Capital, O&M Cost Burden: $0.

Send comments on the Agency's need for this information, the accuracy of the provided burden estimates, and any suggested methods for minimizing respondent burden, including through the use of automated collection techniques to the addresses listed above. Please refer to EPA ICR No. 0866.06 and OMB Control No. 2080-0033 in any correspondence.

Dated: August 16, 2000.
Oscar Morales,
Director, Collection Strategies Division.

[FR Doc. 00-21780 Filed 8-24-00; 8:45 am]

BILLING CODE 6560-50-U